DEPARTMENT OF STATE

[Delegation of Authority: 341]

Delegation by the Secretary of State to the Under Secretary for Arms Control and International Security of Authority To Submit Reports Regarding the New START Treaty

By virtue of the authority vested in me as Secretary of State, including Section 1 of the State Department Basic Authorities Act, as amended (22 U.S.C. 2651a), and to the extent authorized by law, I hereby delegate to the Under Secretary for Arms Control and International Security the authorities and functions delegated to the Secretary of State pursuant to the Presidential Memorandum of November 2, 2011, specifically:

(1) The authority to make the annual certification specified in section (a)(2)(A) of the Resolution of Advice and Consent to Ratification of the New START Treaty (the Resolution); with the Director of National Intelligence, at the direction of the President, preparing the report specified in that section. The Under Secretary shall submit the certification along with the report prepared by the Director of National Intelligence to the Senate.

(2) The authority to submit the reports specified in section (a)(10) and section (a)(12)(B) of the Resolution to the Committees on Foreign Relations and Armed Services of the Senate.

Any act, executive order, regulation or procedure subject to, or affected by, this delegation shall be deemed to be such act, executive order, regulation or procedure as amended from time to time. Notwithstanding this delegation of authority, the Secretary, the Deputy Secretary, or the Deputy Secretary for Management and Resources may at any time exercise any authority or function delegated by this delegation of authority.

This delegation of authority shall be published in the Federal Register.

Dated: December 14, 2011.
Hillary Rodham Clinton,
Secretary of State.

[FR Doc. 2012-739 Filed 1-13-12; 8:45 am]

BILLING CODE 4710-35-P